NUCLEAR REGULATORY COMMISSION

[Docket No. 50-395]

South Carolina Electric & Gas Company; Notice of Withdrawal of Application for Amendment to Facility Operating License

The U.S. Nuclear Regulatory Commission (the Commission) has granted the request of South Carolina Electric & Gas Company (the licensee) to withdraw its January 14, 2003, application for proposed amendment to Facility Operating License No. NPF-12 for the Virgil C. Summer Nuclear Station, Unit No. 1, located in Fairfield County, South Carolina.

The proposed amendment would have revised the Technical Specifications pertaining to emergency core cooling systems (ECCS); exclusion of safety injection pumps from the requirement to vent ECCS pumps.

The Commission had previously issued a Notice of Consideration of Issuance of Amendment published in the Federal Register on March 4, 2003 (68 FR 10281). However, by letter dated June 22, 2005, the licensee withdrew the proposed change.

For further details with respect to this action, see the application for amendment dated January 14, 2003, and the licensee's letter dated June 22, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 8th day of September, 2005.
For the Nuclear Regulatory Commission.
Robert E. Martin,
Senior Project Manager, Section 1, Project Directorate II, Division of Licensing Project Management, Office of Nuclear Reactor Regulation.

[FR Doc. 05-18195 Filed 9-13-05; 8:45 am]

BILLING CODE 7590-01-P